COMMODITY FUTURES TRADING COMMISSION

Request of the New York Mercantile Exchange (NYMEX) for Approval of the New NYMEX PJM Calendar-Month Daily-LMP Swap (PJM Interconnection, LLC) Futures Contract; New NYMEX PJM Calendar-Week Daily-LMP Swap (PJM Interconnection, LLC) Futures Contract; and New NYMEX PJM Day-Ahead LMP Swap (PJM Interconnection, LLC) Futures Contract

AGENCY: Commodity Futures Trading Commission

ACTION: Notice of availability of terms and conditions of proposed commodity futures contracts.

SUMMARY: The New York Mercantile Exchange (NYMEX of Exchange) has proposed three (3) new futures contracts: the PJM Calendar-Month Daily-LMP Swap (PJM interconnection, LLC) futures contract; NYMEX PJM Calendar-Week Daily-LMP Swap (PJM interconnection, LLC) futures contract; and NMEX PJM Day-Ahead LMP Swap (PJM interconnection, LLC) futures contract. The Director of the Division of Market Oversight (Division) of the Commission, acting pursuant to the authority delegated by Commission Regulation 140.96, has determined that the proposed new NYMEX futures contracts are of major economic significance, and that publication for comment is in the public interest, will assist the Commission in considering the views of interested persons, and is consistent with the purposes of the Commodity Exchange Act.

DATES: Comments must be received on or before January 21, 2003.

ADDRESSES: Interested persons should submit their views and comments to Jean A. Webb, Secretary, Commodity Futures Trading Commission, Three Lafayette Centre, 1155 21st Street, NW., Washington, DC 20581. In addition, comments may be sent by facsimile transmission to facsimile number (202) 418-5521, or by electronic mail to secretary@cftc.gov. Reference should be made to the PJM Calendar-Month Daily-LMP Swap (PJM interconnection, LLC) futures contract; NYMEX PJM Calendar-Week Daily-LMP Swap (PJM interconnection, LLC) futures contract; and NMEX PJM Day-Ahead LMP Swap (PJM interconnection, LLC) futures contract.

FOR FURTHER INFORMATION CONTACT: Please contact Joseph B. Storer of the Division of Market Oversight, Commodity Futures Trading Commission, Three Lafayette Centre, 1155 21st Street NW., Washington, DC 20581, telephone (202) 418-5282. Facsimile number: (202) 418-5527. Electronic mail: jstorer@cftc.gov.

SUPPLEMENTARY INFORMATION: Copies of the proposed terms and conditions for the three new futures contracts will be available for inspection at the Office of the Secretariat, Commodity Futures Trading Commission, Three Lafayette Centre, 1155 21st Street NW., Washington, DC 20581. Copies can be obtained through the Office of the Secretariat by mail at the above address, by phone at (202) 418-5100, or via the internet on the CFTC Web site at www.cftc.gov under “What's New & Pending”.

Other materials submitted by the NYMEX in support of the proposals may be available upon request pursuant to the Freedom of Information Act (5 U.S.C. 552) and the Commission's regulations thereunder (17 CFR Part 145 (2000)), except to the extent they are entitled to confidential treatment as set forth in 17 CFR 145.5 and 145.9. Requests for copies of such materials should be made to the FOI, Privacy and Sunshine Act Compliance Staff of the Office of Secretariat at the Commission's headquarters in accordance with 17 CFR 145.7 and 145.8.

Any person interested in submitting written data, views, or arguments on the proposals, or with respect to other materials submitted by the NYMEX, should send such comments to Jean A. Webb, Secretary, Commodity Futures Trading Commission, Three Lafayette Centre, 1155 21st Street NW., Washington, DC 20581 by the specified data.

Issued in Washington, DC, on December 30, 2002.
Michael Gorham,
Director.

[FR Doc. 03-181 Filed 1-3-03; 8:45 am]

BILLING CODE 6351-01-M